DEPARTMENT OF TRANSPORTATION

Federal Aviation Administration

14 CFR Part 71

[Docket No. FAA-2024-0438; Airspace Docket No. 23-AAL-13]

RIN 2120-AA66

Amendment of United States Area Navigation (RNAV) Route T-399 in the Vicinity of Clear, AK

AGENCY: Federal Aviation Administration (FAA), DOT.

ACTION: Notice of proposed rulemaking (NPRM).

SUMMARY: This action proposes to amend United States Area Navigation Route (RNAV) T-399 in the vicinity of Clear, AK. The FAA is proposing this amendment to increase the lateral separation between T-399 and Restricted Area R-2206.

DATES: Comments must be received on or before May 31, 2024.

ADDRESSES: Send comments identified by FAA Docket No. FAA-2024-0438 and Airspace Docket No. 23-AAL-13 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would amend the airway structure as necessary to preserve the safe and efficient flow of air traffic within the National Airspace System.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Western Service Center, Federal Aviation Administration, 2200 South 216th St., Des Moines, WA 98198.

Incorporation by Reference

United States Area Navigation Routes are published in paragraph 6011 of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

On December 29, 2022, the FAA expanded Restricted Area R-2206 in the vicinity of Clear, AK. The expansion of this restricted area impeded the airway structure in the area at the time. Due to these impediments, the FAA amended several airways and established others to provide routing around the expanded restricted area. RNAV route T-399 was one of these routes and was established on December 29, 2022. Although the current design of T-399 does provide the appropriate separation between the route and R-2206, air traffic controllers at the Anchorage Air Route Traffic Control Center (ZAN ARTCC) have identified that additional lateral separation is needed, especially during periods when the ARTCC surveillance radar is limited. The SEAHK, AK, waypoint (WP) on T-399 is a turn point where northbound aircraft change from a northern flight path to a northeastern flight path and where southbound aircraft change from a southwest path to south. At times, aircraft initiate this turn prior to the SEAHK WP, causing air traffic controllers to intervene to ensure proper separation is maintained. This proposed amendment would relocate the SEAHK waypoint approximately 2.3 nautical miles (NM) to the west. Doing so would increase this segment of T-399s lateral spacing from R-2206, providing a 5 NM buffer from all areas of R-2206. This proposed route amendment would also require the inclusion of the EVIEE, AK, WP in the route description. The waypoint EVIEE is currently on T-399 but due to it not being a turning point, it is not included in the route description. This proposed amendment would make the EVIEE WP a turning point, thus requiring its inclusion in the route description. The EVIEE WP would be added to the route description between the PAWWW, AK, WP and the SEAHK, AK, WP.

The Proposal

The FAA is proposing an amendment to 14 CFR part 71 to amend RNAV Route T-399 in the vicinity of Clear, AK. This proposed amendment would increase the lateral separation between the RNAV route and Restricted Area R-2206. Specifically, the SEAHK, AK, WP would be relocated approximately 2.3 NM west from its current location. The SEAHK WP would be renamed to the WHYTT, AK, WP.

T-399: T-399 currently extends between the Talkeetna, AK (TKA), Very High Frequency Omnidirectional Range/Distance Measuring Equipment (VOR/DME) and the Nenana, AK (ENN), VOR/Tactical Air Navigation (VORTAC). The FAA proposes to move the SEAHK, AK, WP approximately 2.3 NM to the west and rename the route point to the WHYTT, AK, WP. Additionally, the FAA proposes to include the EVIEE, AK, WP in the route description. The EVIEE WP would be added between the PAWWW, AK, WP and the SEAHK, AK, WP.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6011 United States Area Navigation Routes.

* * * * *

T-399 Talkeetna, AK (TKA) to Nenana, AK (ENN) [Amended]
Talkeetna, AK (TKA) | VOR/DME | (Lat. 62°17′54.16″ N, long. 150°06′18.90″ W)
AILEE, AK | FIX | (Lat. 63°36′00.04″ N, long. 149°32′23.46″ W)
PAWWW, AK | WP | (Lat. 63°58′06.62″ N, long. 149°35′19.10″ W)
EVIEE, AK | WP | (Lat. 64°08′04.02″ N, long. 149°34′14.27″ W)
WHYTT, AK | WP | (Lat. 64°22′23.27″ N, long. 149°37′54.53″ W)
Nenana, AK (ENN) | VORTAC | (Lat. 64°35′24.04″ N, long. 149°04′22.34″ W)

* * * * *

Issued in Washington, DC, on April 9, 2024.
Frank Lias,
Manager, Rules and Regulations Group.

[FR Doc. 2024-07835 Filed 4-15-24; 8:45 am]

BILLING CODE 4910-13-P